DEPARTMENT OF HOMELAND SECURITY

Federal Emergency Management Agency

[Docket ID: FEMA-2009-0001]

Agency Information Collection Activities: Proposed Collection; Comment Request, 1660-0002; Disaster Assistance Registration

AGENCY: Federal Emergency Management Agency, DHS.

ACTION: Notice; 60-day notice and request for comments; Extension, without change, of a currently approved information collection; OMB No. 1660-0002; FEMA Form 009-0-1 (Replaces 90-69), Application/Registration for Disaster Assistance; FEMA Form 009-0-2 (Replaces 90-69A), Solicitud/Registro Para Asistencia De Resastre; FEMA Form 009-0-3 (Replaces 90-69B), Declaration and Release; FEMA Form 009-0-4 (Replaces 90-69C), Declaración Y Autorización; FEMA Form 009-0-5 (Replaces 90-69D), Receipt for Government Property; FEMA Form 009-0-6 (Replaces 90-69E), Recibo de Propiedad del Gobierno.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the Disaster Assistance Registration process.

DATES: Comments must be submitted on or before March 1, 2010.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Scott Bowman, Individual Assistance Branch Chief, (540) 686-3340 for additional information. You may contact the Office of Records Management for copies of the proposed collection of information at facsimile number (202) 646-3347 or e-mail address: FEMA-Information-Collections@dhs.gov.

SUPPLEMENTARY INFORMATION: The Robert T. Stafford Disaster Relief and Emergency Assistance Act (Pub. L. 93-288) (the Stafford Act), as amended is the legal basis for FEMA to provide financial needs and services to individuals who apply for disaster assistance benefits in the event of a federally declared disaster. Regulations in title 44 CFR, Subpart D, “Federal Assistance to Individuals and Households”, implement the policy and procedures set forth in section 408 of the Stafford Act, 42 U.S.C. 5174, as amended. This program provides financial assistance and, if necessary, direct assistance to eligible individuals and households who, as a direct result of a major disaster, have uninsured or under-insured, damage, necessary expenses, and serious needs which are not covered through other means.

Individuals and households may apply for assistance under the Individuals and Households program via telephone, internet, or on paper using FEMA Form 009-0-1 Application/Registration for Disaster Assistance or FEMA Form 009-0-2, Solicitud/Registro Para Asistencia De Resastre. For housing assistance, FEMA provides direct assistance to eligible applicants pursuant to the requirements in 44 CFR 206.117. To receive direct assistance for housing (e.g., mobile home or travel trailer) from FEMA, the applicant is required to acknowledge and accept the conditions for occupying government property. The form used is the Declaration and Release; FEMA Form 009-0-4, or the Declaración Y Autorización; FEMA Form 009-0-5.

In addition, the applicant is required to acknowledge that he or she has been informed of the conditions for continued direct housing assistance. To accomplish these notifications, FEMA uses the applicant's household composition date in NEMIS to prepare a Receipt for Government Property FEMA Form 009-0-6, or the Recibo de Propiedad del Gobierno FEMA Form 009-0-3.

Collection of Information

Title: Disaster Assistance Registration.

Type of Information Collection: Extension, without change, of a currently approved information collection.

OMB Number: 1660-0002.

Form Titles and Numbers: FEMA Form 009-0-1 (Replaces 90-69), Application/Registration for Disaster Assistance; FEMA Form 009-0-2 (Replaces 90-69A), Solicitud/Registro Para Asistencia de Resastre; FEMA Form 009-0-3 (Replaces 90-69B), Declaration and Release; FEMA Form 009-0-4 (Replaces 90-69C), Declaración y Autorización; FEMA Form 009-0-5 (Replaces 90-69D), Receipt for Government Property; FEMA Form009-0-6 (Replaces 90-69E), Recibo de Propiedad del Gobierno.

Abstract: Disaster Assistance Registration is a program used to provide financial assistance and, if necessary, direct assistance to eligible individuals and households who, as a direct result of a disaster, have uninsured or under-insured necessary expenses and serious needs and are unable to meet such expenses or needs through other financial means.

Affected Public: Individuals or Households.

Estimated Total Annual Burden Hours: 555,009 Hours.

Table A.12—Estimated Annualized Burden Hours and Costs
Type of respondent | Form name/form number | Number of respondents | Number of responses per respondent | Total number of responses | Avg. burden per response (in hours) | Total annual burden (in hours) | Avg. hourly wage rate* | Total annual respondent cost
Individuals or Households | Tele-registration Application for Disaster Assistance | 1,151,255 | 1 | 1,151,255 | 0.3 | 345,377 | $31.78 | $10,976,081
Individuals or Households | Internet Application for Disaster Assistance | 515,487 | 1 | 515,487 | 0.3 | 154,646 | 31.78 | 4,914,650
Individuals or Households | Paper Application for Disaster Assistance (English and Spanish)/FEMA Forms 009-0-1 and 009-0-2 | 51,549 | 1 | 51,549 | 0.3 | 15,465 | 31.78 | 491,478
Individuals or Households | Declaration and Release (English and Spanish)/FEMA Forms 009-0-3 and 009-0-4 | 1,099,706 | 1 | 1,099,706 | .033 (2 minutes) | 36,657 | 31.78 | 1,164,959
Individuals or Households | Receipt for Government Property (English and Spanish)/FEMA Form 009-0-5 and 009-0-6 | 17,183 | 1 | 17,183 | 0.167 | 2,864 | 31.78 | 91,018
Total |  | 1,718,291 |  | 2,835,180 |  | 555,009 |  | 17,638,186
• Note: The “Avg. Hourly Wage Rate” for each respondent includes a 1.4 multiplier to reflect a fully loaded wage rate.
• The total number of respondents is 1,718,291 as the respondents for the “Declaration and Release” and “Receipt for Government Property” collection instruments are a subset of the number of respondents for the “Application for Disaster Assistance (Tele-registration, Internet and Paper-based)” and are not counted separately.

Estimated Cost: There is no annual operation or maintenance cost associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: December 22, 2009.
Alisa Turner,
Acting Director, Office of Records Management, Office of Management, Federal Emergency Management Agency, Department of Homeland Security.

[FR Doc. E9-30770 Filed 12-28-09; 8:45 am]

BILLING CODE 9111-23-P